DEPARTMENT OF THE INTERIOR

National Park Service

[NPS-WASO-NRNHL-19735;PPWOCRADI0, PCU00RP14.R50000]

National Register of Historic Places; Notification of Pending Nominations and Related Actions

AGENCY: National Park Service, Interior.

ACTION: Notice.

SUMMARY: The National Park Service is soliciting comments on the significance of properties nominated before October 31, 2015, for listing or related actions in the National Register of Historic Places.

DATES: Comments should be submitted by December 15, 2015.

ADDRESSES: Comments may be sent via U.S. Postal Service to the National Register of Historic Places, National Park Service, 1849 C St. NW., MS 2280, Washington, DC 20240; by all other carriers, National Register of Historic Places, National Park Service, 1201 Eye St. NW., 8th Floor, Washington, DC 20005; or by fax, 202-371-6447.

SUPPLEMENTARY INFORMATION:

The properties listed in this notice are being considered for listing or related actions in the National Register of Historic Places. Nominations for their consideration were received by the National Park Service before October 31, 2015. Pursuant to section 60.13 of 36 CFR part 60, written comments are being accepted concerning the significance of the nominated properties under the National Register criteria for evaluation.

Before including your address, phone number, email address, or other personal identifying information in your comment, you should be aware that your entire comment—including your personal identifying information—may be made publicly available at any time. While you can ask us in your comment to withhold your personal identifying information from public review, we cannot guarantee that we will be able to do so.

ARIZONA

Maricopa County

Date Palm Manor Historic District, 2024-2106 S. Mill Ave, 5-1377 W. Palmcroft, 32-121 W. Palmdale, 2019-2025 S. Dateland & 2015-2030 Dromedary Drs., Tempe, 15000883

Tomlinson Estates Historic District, 1320-1437 E. Hall & 1300-1404 E. Lemon Sts., Tempe, 15000884

HAWAII

Honolulu County

Friendship Garden, 45-226 Kokohahi Pl., Kaneohe, 15000885

INDIANA

Johnson County

Bethel African Methodist Episcopal Church, 499 W. Madison St., Franklin, 15000886

Marion County

Indianapolis Athletic Club, 350 N. Meridian St., Indianapolis, 15000887

Marshall County

Bourbon Community Building—Gymnasium, (Indiana's Public Common and High Schools MPS) 800 N. Harris St., Bourbon, 15000888

Montgomery County

Spring Ledge, 3268 & 3270 W. Country Club Rd., Crawfordsville, 15000889

Sullivan County

Shelburn Interurban Depot—THI&E Interurban Depot, 3 N. Railroad St., Shelburn, 15000890

Tippecanoe County

Happy Hollow Heights Historic District, 1821 & 1809 Happy Hollow Rd., all houses on Laurel, Hollowood, Fearnleaf & Sumac Drs., West Lafayette, 15000891

Wayne County

Forest Hills Country Club, 2169 S. 23rd St., Richmond, 15000892

IOWA

Johnson County

Union Bakery, 203 N. Linn, Iowa City, 15000893

Linn County

St. James United Methodist Church, (Religious Properties of Cedar Rapids MPS) 1430 Ellis Blvd., NW., Cedar Rapids, 15000894

Polk County

Studebaker Corporation Branch Office Building, (Architectural Legacy of Proudfoot & Bird in Iowa MPS) 1436-42 Locust St., Des Moines, 15000895

MISSOURI

St. Louis Independent city Grand—Over Park Historic District, Bounded by S. Grand Blvd., Bates St. & alleys W. of Dewey Ave. & S. of Bowen St., St. Louis (Independent City), 15000896

NEBRASKA

Buffalo County

Gibbon Baptist Church, 917 2nd St., Gibbon, 15000897

NORTH CAROLINA

Cleveland County

Shelby Cotton Mill, 500 S. Morgan St., Shelby, 15000898

Columbus County

Tabor City Commercial Historic District, Includes Hickman Rd., W. 5th, E. & W. 4th & S. Main Sts., Tabor City, 15000899

Polk County

Downtown Tryon Historic District, Both sides of N. & S. Trade Sts., RR. right-of-way between 98 N. & 55 S. Trade Sts., Tryon, 15000900

OHIO

Cuyahoga County

Lake Shore Bank and Cleveland Public Library St. Clair Branch, 5410 St. Clair Ave. & 1368 E. 55th St., Cleveland, 15000901

Franklin County

Municipal Light Plant, 555 W. Nationwide Blvd., Columbus, 15000902

Miami County

Zollinger, S., Company Building, 101 S. Wayne St., Piqua, 15000903

RHODE ISLAND

Providence County

Prospect Heights Housing Project, 560 Prospect St., Pawtucket, 15000904

VIRGINIA

Bristol Independent city First Baptist Church, 1 Virginia St., Bristol (Independent City), 15000905

Fredericksburg Independent city

Shiloh Baptist Church (Old Site), 801 Sophia St., Fredericksburg (Independent City), 15000907

Gloucester County

Reed, Walter, Birthplace (Boundary Increase), 4021 Hickory Fork Rd., Gloucester, 15000906

Smyth County

Smyth County Community Hospital, 565 Radio Hill Rd., Marion, 15000908

WASHINGTON

Spokane County

Manito Park and Boulevard, (Spokane Parks and Boulevards MPS) 1702 S. Grand Blvd., Spokane, 15000909

Thurston County

Stoecker, Richard & Lydia, 1701 4th Ave., E., Olympia, 15000910

A request to move has been received for the following resource:

NORTH CAROLINA

Wake County

Hall, Rev. Plummer T., House, 814 Oberlin Rd., Raleigh, 02000501

Authority: 36 CFR 60.13.

Dated: November 3, 2015.
J. Paul Loether,
Chief, National Register of Historic Places/National Historic Landmarks Program.

[FR Doc. 2015-30255 Filed 11-27-15; 8:45 am]

BILLING CODE 4312-51-P